ENVIRONMENTAL PROTECTION AGENCY

40 CFR Part 63

[EPA-HQ-OAR-2019-0314, EPA-HQ-OAR-2017-0684, EPA-HQ-OAR-2016-0447, EPA-HQ-OAR-2013-0290; FRL-8472-01-OAR]

RIN 2060-AT49, 2060-AT51, 2060-AT12, and 2060-AT25

National Emission Standards for Hazardous Air Pollutants: Surface Coating of Automobiles and Light-Duty Trucks, Surface Coating of Metal Cans, Boat Manufacturing, and Clay Ceramics Manufacturing; Technical Correction

AGENCY: Environmental Protection Agency (EPA).

ACTION: Final rule; technical correction.

SUMMARY: In this action, the U.S. Environmental Protection Agency (EPA) is making technical corrections to four regulations under the National Emission Standards for Hazardous Air Pollutants (NESHAP) program. Specifically, the rules to be amended by this action include the following: The NESHAP for Surface Coating of Automobiles and Light-Duty Trucks, promulgated on July 8, 2020; the NESHAP for Surface Coating of Metal Cans, promulgated on February 25, 2020; the NESHAP for Boat Manufacturing, promulgated on March 20, 2020; and the NESHAP for Clay Ceramics Manufacturing, promulgated on November 1, 2019. Following signature of each of these final rules, the EPA discovered inadvertent minor errors and is correcting these errors in this action.

DATES: This final rule is effective on November 19, 2021. The incorporation by reference (IBR) of certain publications listed in the rule is approved by the Director of the Federal Register as of November 19, 2021. The incorporation by reference of certain other publications listed in the rule was approved by the Director of the Federal Register as of June 25, 2004 and July 8, 2020.

ADDRESSES: The EPA has established a docket for each rule included in this action under the following: Docket ID No. EPA-HQ-OAR-2019-0314 (NESHAP for Surface Coating of Automobiles and Light-Duty Trucks), Docket ID No. EPA-HQ-OAR-2017-0684 (NESHAP for Surface Coating of Metal Cans), Docket ID No. EPA-HQ-OAR-2016-0447 (NESHAP for Boat Manufacturing), and Docket ID No. EPA-HQ-OAR-2013-0290 (NESHAP for Clay Ceramic Manufacturing). All documents in each docket are listed on the https://www.regulations.gov/ website. Although listed, some information is not publicly available, e.g., Confidential Business Information (CBI) or other information whose disclosure is restricted by statute. Certain other material, such as copyrighted material, is not placed on the internet and will be publicly available only in hard copy form. Publicly available docket materials are available electronically through https://www.regulations.gov/. Out of an abundance of caution for members of the public and our staff, the EPA Docket Center and Reading Room are closed to the public, with limited exceptions, to reduce the risk of transmitting COVID-19. Our Docket Center staff will continue to provide remote customer service via email, phone, and webform. For further information on EPA Docket Center services and the current status, please visit us online at https://www.epa.gov/dockets.

FOR FURTHER INFORMATION CONTACT: For questions about this final action, contact Mr. Brian Storey, Sector Policies and Programs Division (D243-04), Office of Air Quality Planning and Standards, U.S. Environmental Protection Agency, Research Triangle Park, North Carolina 27711; telephone number: (919) 541-1103; fax number: (919) 541-4991; and email address: storey.brian@epa.gov.

SUPPLEMENTARY INFORMATION:

I. Summary of This Action

Section 553 of the Administrative Procedure Act (APA), 5 U.S.C. 553(b)(3)(B), provides that, when an agency for good cause finds that notice and public procedure are impracticable, unnecessary, or contrary to the public interest, the agency may issue a rule without providing notice and an opportunity for public comment. The EPA has determined that for this action, there is good cause for making these technical corrections final without a prior proposal and the opportunity for comment because the Agency is correcting minor errors that do not substantially change the Agency action taken in each of the four final rules discussed. These technical corrections will ensure that the regulatory text agrees with the description of the rule that the EPA provided in the final rule preamble for each of the four rules discussed in this action. Thus, notice and comment public procedures are unnecessary. The Agency finds that this constitutes a good cause under 5 U.S.C. 553(b)(3)(B). See also the final sentence of section 307(d)(1) of the Clean Air Act (CAA), 42 U.S.C. 307(d)(1), indicating that the good cause provisions in subsection 553(b) of the APA continue to apply to this type of rulemaking under section 307(d) of the CAA. Refer to sections I.A through I.D of this preamble for a more detailed discussion of the goof cause rationale for each rule.

A. Summary of Technical Corrections to the NESHAP for Surface Coating of Automobiles and Light-Duty Trucks and Incorporation by Reference

In the July 8, 2020, final rule (85 FR 41100) the EPA included reference to the document, Protocol for Determining the Volatile Organic Compound Emission Rate of Automobile and Light-Duty Truck Topcoat, published December 1988 (EPA-450/3-88-018). This document was found to be out-of-date. In this action, the EPA is amending the rule to refer to the document, Protocol for Determining the Daily Volatile Organic Compound Emission Rate of Automobile and Light-Duty Truck Primer-Surfacer and Topcoat, published September 2008 (EPA-453/R-08-002). This protocol determines the daily VOC emission rate (pounds of VOC per gallon of coating solids deposited) for a complete auto and light duty truck topcoat operation. The EPA has made, and will continue to make, the EPA document generally available electronically through https://www.regulations.gov/ and at the appropriate EPA office (see the ADDRESSES section of this preamble for more information). A copy of the red line version of the corrected rule language is available in Docket ID No. EPA-HQ-OAR-2019-0314. The intent of the rule remains unchanged by correcting the reference. The protocols provided by the revised September 2008 document (EPA-453/R-08-002) are consistent with the protocols of the December 1988 document (EPA-450/3-88-018); therefore, the EPA finds good cause to make the correction in this direct final action.

B. Summary of Technical Corrections to the NESHAP for Surface Coating of Metal Cans

The publication of the February 25, 2020, final rule (85 FR 10828) inadvertently deleted Equation 1 of the rule from the text of the Code of Federal Regulations. This equation was not intended to be deleted. In this action, the EPA is restoring the deleted equation and the associated definitions to § 63.3541(h). A red line version of the corrected rule language is available in Docket ID No. EPA-HQ-OAR-2017-0684. Equation 1 is used to calculate organic HAP emission reductions from controlled coating operations not using liquid-liquid material balances. Equation 1 was not part of the 2020 final rule amendments and was already in the rule prior to the amendments. Section 63.3541(h) of the rule references Equation 1, and without the equation, the reference is incomplete; therefore, the EPA finds good cause to make the correction in this direct final action.

C. Summary of Technical Corrections to the NESHAP for Boat Manufacturing

Table 8 of the March 20, 2020, final rule (85 FR 15960) included specific references to the general provisions of 40 CFR part 63, subpart A. After promulgation, the EPA found that Table 8 indicates that 40 CFR 63.6(f) applies to the rule, but, in fact, section 63.6(f)(1) includes start-up, shutdown, and malfunction (SSM) language that has been vacated by the D.C. Circuit and the EPA stated in the preamble the Agency intended to remove from the Boat Manufacturing NESHAP (85 FR at 15963 and 15967-68). In this action, the EPA is revising Table 8 to indicate § 63.6(f)(1) does not apply. A red line version of the corrected rule language is available in Docket ID No. EPA-HQ-OAR-2016-0447. The correction to the reference in Table 8 only corrects the reference to subpart A and does not change the requirement to comply with emission limits of the rule at all times, as addressed in the proposed and final rule preamble. These corrections will ensure that the regulatory text agrees with the description of the rule that was provided in the final rule preamble; therefore, the EPA finds good cause to make the correction in this direct final action.

D. Summary of Technical Corrections to the NESHAP for Clay Ceramic Manufacturing

Following signature of the November 1, 2019, final rule (84 FR 58601), the EPA discovered inadvertent errors in Table 2 of the rule. In several instances, the rows of the table were misaligned when published. Table 2 of the rule provides operating limits for regulated emission sources and their various control technology configurations and includes three columns. As a result of the error in publication, several of the control technologies identified in the rightmost column (column 3) were misaligned with the sources identified in the leftmost column (column 1), so that they no longer were appropriate or relevant. In this action, the EPA is correcting the table to ensure the control technology information is relevant to the appropriate source. In addition, the EPA's Electronic Reporting Tool (ERT) URL included a typographical error rendering the weblink, as written in the rule text, inoperable. This action corrects the URL of the weblink to ensure accessibility of the tool. A red line version of the corrected rule language is available in Docket ID No. EPA-HQ-OAR-2013-0290. The corrections to Table 8 and to the URL do not affect the standards of the rule, and only ensure the information provided is accurate and relevant; therefore, the EPA finds good cause to make the correction in this direct final action.

II. Summary of Cost, Environmental, and Economic Impacts

This action will have no cost, environmental, energy, or economic impacts beyond those impacts presented in the July 8, 2020, NESHAP for Surface Coating of Automobiles and Light-Duty Trucks final rule (85 FR 41100), the February 25, 2020, NESHAP for Surface Coating of Metal Cans final rule (85 FR 10828), the March 20, 2020, NESHAP for Boat Manufacturing final rule (85 FR 15960), and the October 26, 2015 NESHAP for Clay Ceramics Manufacturing final rule (84 FR 58601). The technical corrections are cost neutral.

List of Subjects in 40 CFR Part 63

Environmental protection, Administrative practices and procedures, Air pollution control, Hazardous substances, Incorporation by reference, Intergovernmental relations, Reporting and recordkeeping requirements.

Joseph Goffman,
Office of Air and Radiation, Acting Assistant Administrator.

For the reasons set out in the preamble, 40 CFR part 63 is corrected as follows:

PART 63—NATIONAL EMISSION STANDARDS FOR HAZARDOUS AIR POLLUTANTS FOR SOURCE CATEGORIES

1. The authority citation for part 63 continues to read as follows:

Authority: 42 U.S.C. 7401 et seq.

Subpart A—General Provisions

2. Section 63.14 is amended by revising paragraph (n)(1) to read as follows:

§ 63.14 Incorporations by reference.

* * * * *

(n) * * *

(1) EPA-453/R-08-002, Protocol for Determining the Daily Volatile Organic Compound Emission Rate of Automobile and Light-Duty Truck Primer-Surfacer and Topcoat, published September 2008, IBR approved for §§ 63.3130(c), 63.3161(d) and (g), 63.3165(e), and appendix A to subpart IIII.

* * * * *

Subpart IIII—National Emission Standards for Hazardous Air Pollutants: Surface Coating of Automobiles and Light-Duty Trucks

3. Section 63.3130 is amended by revising paragraphs (c)(4) and (5) to read as follows:

§ 63.3130 What records must I keep?

* * * * *

(c) * * *

(4) A record of the calculation of the organic HAP emission rate for electrodeposition primer, primer-surfacer, topcoat, final repair, glass bonding primer, and glass bonding adhesive plus all coatings and thinners, except for deadener materials and for adhesive and sealer materials that are not components of glass bonding systems, used in coating operations added to the affected source pursuant to § 63.3082(c) for each month if subject to the emission limit of § 63.3090(a) or § 63.3091(a). This record must include all raw data, algorithms, and intermediate calculations. If the guidelines presented in the “Protocol for Determining the Daily Volatile Organic Compound Emission Rate of Automobile and Light-Duty Truck Primer-Surfacer and Topcoat” EPA-453/R-08-002 (incorporated by reference, see § 63.14), are used, you must keep records of all data input to this protocol. If these data are maintained as electronic files, the electronic files, as well as any paper copies must be maintained. These data must be provided to the permitting authority on request on paper, and in (if calculations are done electronically) electronic form.

(5) A record of the calculation of the organic HAP emission rate for primer-surfacer, topcoat, final repair, glass bonding primer, and glass bonding adhesive plus all coatings and thinners, except for deadener materials and for adhesive and sealer materials that are not components of glass bonding systems, used in coating operations added to the affected source pursuant to § 63.3082(c) for each month if subject to the emission limit of § 63.3090(b) or § 63.3091(b), and a record of the weight fraction of each organic HAP in each material added to the electrodeposition primer system if subject to the limitations of § 63.3092(a). This record must include all raw data, algorithms, and intermediate calculations. If the guidelines presented in the “Protocol for Determining the Daily Volatile Organic Compound Emission Rate of Automobile and Light-Duty Truck Primer-Surfacer and Topcoat” EPA-453/R-08-002 (incorporated by reference, see § 63.14), are used, you must keep records of all data input to this protocol. If these data are maintained as electronic files, the electronic files, as well as any paper copies must be maintained. These data must be provided to the permitting authority on request on paper, and in (if calculations are done electronically) electronic form.

* * * * *

4. Section 63.3161 is amended by revising paragraphs (d) and (g) to read as follows:

§ 63.3161 How do I demonstrate initial compliance?

* * * * *

(d) Compliance with emission limits. You must follow the procedures in paragraphs (e) through (o) of this section to demonstrate compliance with the applicable emission limit in § 63.3090(a) or § 63.3091(a). You may also use the guidelines presented in “Protocol for Determining the Daily Volatile Organic Compound Emission Rate of Automobile and Light-Duty Truck Primer-Surfacer and Topcoat” EPA-453/R-08-002 (incorporated by reference, see § 63.14) in making this demonstration.

* * * * *

(g) Determine the transfer efficiency for each coating. You must determine the transfer efficiency for each primer-surfacer and topcoat coating, and for all coatings, except for deadener and for adhesive and sealer that are not components of glass bonding systems, used in coating operations added to the affected source pursuant to § 63.3082(c) using ASTM Method D5066-91 (Reapproved 2017), “Standard Test Method for Determination of the Transfer Efficiency Under Production Conditions for Spray Application of Automotive Paints-Weight Basis” (incorporated by reference, see § 63.14), or the guidelines presented in “Protocol for Determining the Daily Volatile Organic Compound Emission Rate of Automobile and Light-Duty Truck Primer-Surfacer and Topcoat” EPA-453/R-08-002 (incorporated by reference, see § 63.14). You may conduct transfer efficiency testing on representative coatings and for representative spray booths as described in “Protocol for Determining the Daily Volatile Organic Compound Emission Rate of Automobile and Light-Duty Truck Primer-Surfacer and Topcoat” EPA-453/R-08-002 (incorporated by reference, see § 63.14). You may assume 100 percent transfer efficiency for electrodeposition primer coatings, glass bonding primers, and glass bonding adhesives. For final repair coatings, you may assume 40 percent transfer efficiency for air atomized spray and 55 percent transfer efficiency for electrostatic spray and high volume, low pressure spray. For blackout, chip resistant edge primer, interior color, inline repair, lower body anti-chip coatings, or underbody anti-chip coatings, you may assume 40 percent transfer efficiency for air atomized spray, 55 percent transfer efficiency for electrostatic spray and high volume-low pressure spray, and 80 percent transfer efficiency for airless spray.

* * * * *

5. Section 63.3165 is amended by:

a. Revising paragraph (e) introductory text, and

b. In Equation 6 of paragraph (e)(2), Equation 7 of paragraph (e)(3), and Equation 8 of paragraph (e)(4) remove the text `Protocol for Determining the Daily Volatile Organic Compound Emission Rate of Automobile and Light-Duty Truck Topcoat Operations, EPA-450/3-88-018”, and add, in its place, the text “Protocol for Determining the Daily Volatile Organic Compound Emission Rate of Automobile and Light-Duty Truck Primer-Surfacer and Topcoat, EPA-453/R-08-002”.

The revision reads as follows:

§ 63.3165 How do I determine the emission capture system efficiency?

* * * * *

(e) Panel testing to determine the capture efficiency of flash-off or bake oven emissions. You may conduct panel testing to determine the capture efficiency of flash-off or bake oven emissions using ASTM Method D5087-02, “Standard Test Method for Determining Amount of Volatile Organic Compound (VOC) Released from Solventborne Automotive Coatings and Available for Removal in a VOC Control Device (Abatement)” (incorporated by reference, see § 63.14), ASTM Method D6266-00a (2017), “Test Method for Determining the Amount of Volatile Organic Compound (VOC) Released from Waterborne Automotive Coatings and Available for Removal in a VOC Control Device (Abatement)” (incorporated by reference, see § 63.14), or the guidelines presented in “Protocol for Determining the Daily Volatile Organic Compound Emission Rate of Automobile and Light-Duty Truck Primer-Surfacer and Topcoat” EPA-453/R-08-002 (incorporated by reference, see § 63.14). You may conduct panel testing on representative coatings as described in “Protocol for Determining the Daily Volatile Organic Compound Emission Rate of Automobile and Light-Duty Truck Primer-Surfacer and Topcoat” EPA-453/R-08-002 (incorporated by reference, see § 63.14).

* * * * *

6. Amend Appendix A to subpart IIII of part 63 by:

a. Revising paragraphs 2.1 and 2.2 of section 2.0, and

b. In section 4.0:

i. Revising paragraph 4.1; and

ii. In section 4.2 Equation A-4, remove the text “Protocol for Determining the Daily Volatile Organic Compound Emission Rate of Automobile and Light-Duty Truck Topcoat Operations, EPA-450/3-88-018”, and add, in its place, the text “Protocol for Determining the Daily Volatile Organic Compound Emission Rate of Automobile and Light-Duty Truck Primer-Surfacer and Topcoat,EPA-453/R-08-002”.

The revisions read as follows:

Appendix A to Subpart IIII of Part 63—Determination of Capture Efficiency of Automobile and Light-Duty Truck Spray Booth Emissions From Solvent-Borne Coatings Using Panel Testing

* * * * *

2.1 You may conduct panel testing to determine the capture efficiency of spray booth emissions. You must follow the instructions and calculations in this appendix A, and use the panel testing procedures in ASTM Method D5087-02, “Standard Test Method for Determining Amount of Volatile Organic Compound (VOC) Released from Solvent-borne Automotive Coatings and Available for Removal in a VOC Control Device (Abatement)” (incorporated by reference, see § 63.14), or the guidelines presented in “Protocol for Determining the Daily Volatile Organic Compound Emission Rate of Automobile and Light-Duty Truck Primer-Surfacer and Topcoat” EPA-453/R-08-002 (incorporated by reference, see § 63.14). You must weigh panels at the points described in section 2.5 of this appendix A and perform calculations as described in sections 3 and 4 of this appendix A. You may conduct panel tests on the production paint line in your facility or in a laboratory simulation of the production paint line in your facility.

2.2 You may conduct panel testing on representative coatings as described in “Protocol for Determining the Daily Volatile Organic Compound Emission Rate of Automobile and Light-Duty Truck Primer-Surfacer and Topcoat” EPA-453/R-08-002 (incorporated by reference, see § 63.14). If you panel test representative coatings, then you may calculate either a unique percent capture efficiency value for each coating grouped with that representative coating, or a composite percent capture efficiency value for the group of coatings. If you panel test each coating, then you must convert the panel test result for each coating to a unique percent capture efficiency value for that coating.

* * * * *

4.1 If you panel test representative coatings, then you may convert the panel test result for each representative coating from section 3.3 of this appendix A either to a unique percent capture efficiency value for each coating grouped with that representative coating by using coating specific values for the mass fraction coating solids and mass fraction VOC in section 4.2 of this appendix A, or to a composite percent capture efficiency value for the group of coatings by using the average values for the group of coatings for mass fraction coating solids and mass fraction VOC in section 4.2 of this appendix A. If you panel test each coating, then you must convert the panel test result for each coating to a unique percent capture efficiency value by using coating specific values for the mass fraction coating solids and mass fraction VOC in section 4.2 of this appendix A. The mass fraction of VOC in the coating and the mass fraction of solids in the coating must be determined by Method 24 (appendix A-7 to 40 CFR part 60) or by following the guidelines for combining analytical VOC content and formulation solvent content presented in “Protocol for Determining the Daily Volatile Organic Compound Emission Rate of Automobile and Light-Duty Truck Primer-Surfacer and Topcoat” EPA-453/R-08-002 (incorporated by reference, see § 63.14).

* * * * *

Subpart KKKK—National Emission Standards for Hazardous Air Pollutants: Surface Coating of Metal Cans

7. Section 63.3541 is amended by revising paragraph (h) to read as follows:

§ 63.3541 How do I demonstrate initial compliance?

* * * * *

(h) Calculate the organic HAP emission reduction for each controlled coating operation not using liquid-liquid material balances. For each controlled coating operation using an emission capture system and add-on control device, other than a solvent recovery system for which you conduct liquid-liquid material balances, calculate the organic HAP emission reduction, using Equation 1 of this section. The calculation applies the emission capture system efficiency and add-on control device efficiency to the mass of organic HAP contained in the coatings and thinners that are used in the coating operation served by the emission capture system and add-on control device during each month. For any period of time a deviation specified in § 63.3542(c) or (d) occurs in the controlled coating operation, you must assume zero efficiency for the emission capture system and add-on control device, unless you have other data indicating the actual efficiency of the emission capture system and add-on control device, and the use of these data has been approved by the Administrator. Equation 1 of this section treats the materials used during such a deviation as if they were used on an uncontrolled coating operation for the time period of the deviation.

Where:

Hc = Mass of organic HAP emission reduction for the controlled coating operation during the month, kg.

Ac = Total mass of organic HAP in the coatings used in the controlled coating operation during the month, kg, as calculated in Equation 1A of this section.

Bc = Total mass of organic HAP in the thinners used in the controlled coating operation during the month, kg, as calculated in Equation 1B of this section.

Hunc = Total mass of organic HAP in the coatings and thinners used during all deviations specified in § 63.3542(c) and (d) that occurred during the month in the controlled coating operation, kg, as calculated in Equation 1C of this section.

CE = Capture efficiency of the emission capture system vented to the add-on control device, percent. Use the test methods and procedures specified in §§ 63.3543 and 63.3544 to measure and record capture efficiency.

DRE = Organic HAP destruction or removal efficiency of the add-on control device, percent. Use the test methods and procedures in §§ 63.3543 and 63.3545 to measure and record the organic HAP destruction or removal efficiency.

* * * * *

Subpart VVVV—National Emission Standards for Hazardous Air Pollutants for Boat Manufacturing

8. Table 8 to subpart VVVV of part 63 is revised to read as follows:

Table 8 to Subpart VVVV of Part 63—Applicability of General Provisions (40 CFR Part 63, Subpart A) to Subpart VVVV

As specified in § 63.5773, you must comply with the applicable requirements of the General Provisions according to the following table:

Citation | Requirement | Applies to subpart VVVV | Explanation
§ 63.1(a) | General Applicability | Yes. |
§ 63.1(b) | Initial Applicability Determination | Yes. |
§ 63.1(c)(1) | Applicability After Standard Established | Yes. |
§ 63.1(c)(2) |  | Yes | Area sources are not regulated by subpart VVVV.
§ 63.1(c)(3) |  | No | [Reserved].
§ 63.1(c)(4)-(5) |  | Yes. |
§ 63.1(d) |  | No | [Reserved].
§ 63.1(e) | Applicability of Permit Program | Yes. |
§ 63.2 | Definitions | Yes | Additional definitions are found in § 63.5779.
§ 63.3 | Units and Abbreviations | Yes. |
§ 63.4(a) | Prohibited Activities | Yes. |
§ 63.4(b)-(c) | Circumvention/Severability | Yes. |
§ 63.5(a) | Construction/Reconstruction | Yes. |
§ 63.5(b) | Requirements for Existing, Newly Constructed, and Reconstructed Sources | Yes. |
§ 63.5(c) |  | No | [Reserved].
§ 63.5(d) | Application for Approval of Construction/Reconstruction | Yes. |
§ 63.5(e) | Approval of Construction/Reconstruction | Yes. |
§ 63.5(f) | Approval of Construction/Reconstruction Based on prior State Review | Yes. |
§ 63.6(a) | Compliance with Standards and Maintenance Requirements—Applicability | Yes. |
§ 63.6(b) | Compliance Dates for New and Reconstructed Sources | Yes | § 63.695 specifies compliance dates, including the compliance date for new area sources that become major sources after the effective date of the rule.
§ 63.6(c) | Compliance Dates for Existing Sources | Yes | § 63.5695 specifies compliance dates, including the compliance date for existing area sources that become major sources after the effective date of the rule.
§ 63.6(d) |  | No | [Reserved].
§ 63.6(e)(1)-(2) | Operation and Maintenance Requirements | No | Operating requirements for open molding operations with add-on controls are specified in § 63.5725.
§ 63.6(e)(3) | Startup, Shut Down, and Malfunction Plans | No | Only sources with add-on controls must complete startup, shutdown, and malfunction plans.
§ 63.6(f)(1) |  | No. |
§ 63.6(f)(2)-(3) | Compliance with Nonopacity Emission Standards | Yes. |
§ 63.6(g) | Use of an Alternative Nonopacity Emission Standard | Yes. |
§ 63.6(h) | Compliance with Opacity/Visible Emissions Standards | No | Subpart VVVV does not specify opacity or visible emission standards.
§ 63.6(i) | Extension of Compliance with Emission Standards | Yes. |
§ 63.6(j) | Exemption from Compliance with Emission Standards | Yes. |
§ 63.7(a)(1) | Performance Test Requirements | Yes. |
§ 63.7(a)(2) | Dates for performance tests | No | § 63.5716 specifies performance test dates.
§ 63.7(a)(3) | Performance testing at other times | Yes. |
§ 63.7(b)-(h) | Other performance testing requirements | Yes. |
§ 63.8(a)(1)-(2) | Monitoring Requirements—Applicability | Yes | All of § 63.8 applies only to sources with add-on controls. Additional monitoring requirements for sources with add-on controls are found in § 63.5725.
§ 63.8(a)(3) |  | No | [Reserved].
§ 63.8(a)(4) |  | No | Subpart VVVV does not refer directly or indirectly to § 63.11.
§ 63.8(b)(1) | Conduct of Monitoring | Yes. |
§ 63.8(b)(2)-(3) | Multiple Effluents and CMS | Yes | Applies to sources that use a CMS on the control device stack.
§ 63.8(c)(1)(i) and (iii) | CMS Operation and Maintenance | No | References to startup, shutdown, malfunction are not applicable.
§ 63.8(c)(1)-(4) | CMS Operation and Maintenance | Yes | Except those provisions in § 63.8(c)(1)(i) and (iii) as noted above.
§ 63.8(c)(5) | Continuous Opacity Monitoring Systems (COMS) | No | Subpart VVVV does not have opacity or visible emission standards.
§ 63.8(c)(6)-(8) | CMS Calibration Checks and Out-of-Control Periods | Yes. |
§ 63.8(d) | Quality Control Program | Yes | Except those provisions of § 63.8(d)(3) regarding a startup, shutdown, malfunction plan as noted below.
§ 63.8(d)(3) | Quality Control Program | No | No requirement for a startup, shutdown, malfunction plan.
§ 63.8(e) | CMS Performance Evaluation | Yes. |
§ 63.8(f)(1)-(5) | Use of an Alternative Monitoring Method | Yes. |
§ 63.8(f)(6) | Alternative to Relative Accuracy Test | Yes | Applies only to sources that use continuous emission monitoring systems (CEMS).
§ 63.8(g) | Data Reduction | Yes. |
§ 63.9(a) | Notification Requirements—Applicability | Yes. |
§ 63.9(b) | Initial Notifications | Yes. |
§ 63.9(c) | Request for Compliance Extension | Yes. |
§ 63.9(d) | Notification That a New Source Is Subject to Special Compliance Requirements | Yes. |
§ 63.9(e) | Notification of Performance Test | Yes | Applies only to sources with add-on controls.
§ 63.9(f) | Notification of Visible Emissions/Opacity Test | No | Subpart VVVV does not have opacity or visible emission standards.
§ 63.9(g)(1) | Additional CMS Notifications—Date of CMS Performance Evaluation | Yes | Applies only to sources with add-on controls.
§ 63.9(g)(2) | Use of COMS Data | No | Subpart VVVV does not require the use of COMS.
§ 63.9(g)(3) | Alternative to Relative Accuracy Testing | Yes | Applies only to sources with CEMS.
§ 63.9(h) | Notification of Compliance Status | Yes. |
§ 63.9(i) | Adjustment of Deadlines | Yes. |
§ 63.9(j) | Change in Previous Information | Yes. |
§ 63.10(a) | Recordkeeping/Reporting—Applicability | Yes. |
§ 63.10(b)(1) | General Recordkeeping Requirements | Yes | §§ 63.567 and 63.5770 specify additional recordkeeping requirements.
§ 63.10(b)(2)(i), (iii), (vi)-(xiv) | General Recordkeeping Requirements | Yes. |
§ 63.10(b)(2)(ii), (iv), (v) | Recordkeeping Relevant to Startup, Shutdown, and Malfunction Periods | No. |
§ 63.10(b)(3) | Recordkeeping Requirements for Applicability Determinations | Yes | § 63.5686 specifies applicability determinations for non-major sources.
§ 63.10(c)(1)-(14) | Additional Recordkeeping for Sources with CMS | Yes | Applies only to sources with add-on controls.
§ 63.10(c)(15) | Additional Recordkeeping for Sources with CMS | No | No requirement for a startup, shutdown, malfunction plan.
§ 63.10(d)(1) | General Reporting Requirements | Yes | § 63.5764 specifies additional reporting requirements.
§ 63.10(d)(2) | Performance Test Results | Yes | § 63.5764 specifies additional requirements for reporting performance test results.
§ 63.10(d)(3) | Opacity or Visible Emissions Observations | No | Subpart VVVV does not specify opacity or visible emission standards.
§ 63.10(d)(4) | Progress Reports for Sources with Compliance Extensions | Yes. |
§ 63.10(d)(5) | Startup, Shutdown, and Malfunction Reports | No | Applies only to sources with add-on controls.
§ 63.10(e)(1) | Additional CMS Reports—General | Yes | Applies only to sources with add-on controls.
§ 63.10(e)(2) | Reporting Results of CMS Performance Evaluations | Yes | Applies only to sources with add-on controls.
§ 63.10(e)(3) | Excess Emissions/CMS Performance Reports | Yes | Applies only to sources with add-on controls.
§ 63.10(e)(4) | COMS Data Reports | No | Subpart VVVV does not specify opacity or visible emission standards.
§ 63.10(f) | Recordkeeping/Reporting Waiver | Yes. |
§ 63.11 | Control Device Requirements—Applicability | No | Facilities subject to subpart VVVV do not use flares as control devices.
§ 63.12 | State Authority and Delegations | Yes | § 63.5776 lists those sections of subpart A that are not delegated.
§ 63.13 | Addresses | Yes. |
§ 63.14 | Incorporation by Reference | Yes. |
§ 63.15 | Availability of Information/Confidentiality | Yes. |

Subpart KKKKK—National Emission Standards for Hazardous Air Pollutants for Clay Ceramics Manufacturing

9. Section 63.8635 is amended by revising (g)(1) to read as follows:

§ 63.8635 What reports must I submit and when?

* * * * *

(g) * * *

(1) For data collected using test methods supported by the EPA's Electronic Reporting Tool (ERT) as listed on the EPA's ERT website (https://www.epa.gov/electronic-reporting-air-emissions/electronic-reporting-tool-ert) at the time of the test, you must submit the results of the performance test to the EPA via the Compliance and Emissions Data Reporting Interface (CEDRI). (CEDRI can be accessed through the EPA's Central Data Exchange (CDX) (https://cdx.epa.gov/).) Performance test data must be submitted in a file format generated through the use of the EPA's ERT or an alternate electronic file format consistent with the extensible markup language (XML) schema listed on the EPA's ERT website. If you claim that some of the performance test information being submitted is confidential business information (CBI), you must submit a complete file generated through the use of the EPA's ERT or an alternate electronic file consistent with the XML schema listed on the EPA's ERT website, including information claimed to be CBI, on a compact disc, flash drive, or other commonly used electronic storage media to the EPA. The electronic media must be clearly marked as CBI and mailed to U.S. EPA/OAPQS/CORE CBI Office, Attention: Group Leader, Measurement Policy Group, MD C404-02, 4930 Old Page Rd., Durham, NC 27703. The same ERT or alternate file with the CBI omitted must be submitted to the EPA via the EPA's CDX as described earlier in this paragraph (g)(1).

* * * * *

10. Table 2 to subpart KKKKK of part 63 is revised to read as follows:

Table 2 to Subpart KKKKK of Part 63—Operating Limits

As stated in § 63.8555, you must meet each operating limit in the following table that applies to you:

For each . . . | You must . . . | Or you must . . .
1. Tunnel or roller kiln equipped with a DIFF or DLS/FF. | a. If you use a bag leak detection system, initiate corrective action within 1 hour of a bag leak detection system alarm and complete corrective actions in accordance with your OM&M plan; operate and maintain the fabric filter such that the alarm is not engaged for more than 5 percent of the total operating time in a 6-month block reporting period; and b. Maintain free-flowing lime in the feed hopper or silo and to the APCD at all times for continuous injection systems; maintain the feeder setting (on a per ton of throughput basis) at or above the level established during the performance test for continuous injection systems in which compliance was demonstrated. | i. Maintain no VE from the DIFF or DLS/FF stack; or ii. Maintain your kiln operating temperature within the range of acceptable temperatures (i.e., temperature profile) established for each kiln and product.
2. Tunnel or roller kiln equipped with a WS. | a. Maintain the average scrubber liquid pH for each 3-hour block period at or above the average scrubber liquid pH established during the HF/HCl performance test in which compliance was demonstrated; and b. Maintain the average scrubber liquid flow rate for each 3-hour block period at or above the highest average scrubber liquid flow rate established during the HF/HCl and PM performance tests in which compliance was demonstrated.
3. Tunnel or roller kiln equipped with an ACI system. | Maintain the 3-hour block average carbon flow rate at or above the highest average carbon flow rate established during the Hg and dioxin/furan performance tests in which compliance was demonstrated.
4. Tunnel or roller kiln intending to comply with dioxin/furan emission limit without an ACI system | Maintain the average operating temperature for each 12-hour block period at or below the highest operating temperature established during the dioxin/furan performance test in which compliance was demonstrated
5. Tunnel or roller kiln with no add-on control | a. Maintain no VE from the stack; and b. Maintain the kiln process rate at or below the kiln process rate determined according to § 63.8595(g)(1) if your total facility maximum potential HCl-equivalent emissions are greater than the HCl-equivalent limit in Table 1 to this subpart; and c. Maintain the average operating temperature for each 12-hour block period at or below the highest operating temperature established during the dioxin/furan performance test in which compliance was demonstrated. | i. Maintain your kiln operating temperature within the range of acceptable temperatures (i.e., temperature profile) established for each kiln and product.
6. Glaze spray operation equipped with a FF | a. If you use a bag leak detection system, initiate corrective action within 1 hour of a bag leak detection system alarm and complete corrective actions in accordance with your OM&M plan; operate and maintain the fabric filter such that the alarm is not engaged for more than 5 percent of the total operating time in a 6-month block reporting period. | i. Maintain no VE from the FF stack.
7. Glaze spray operation equipped with a WS. | a. Maintain the average scrubber pressure drop for each 3-hour block period at or above the average pressure drop established during the PM performance test in which compliance was demonstrated; and b. Maintain the average scrubber liquid flow rate for each 3-hour block period at or above the average scrubber liquid flow rate established during the PM performance test in which compliance was demonstrated.
8. Glaze spray operation equipped with a water curtain. | a. Conduct daily inspections to verify the presence of water flow to the wet control system; and b. Conduct annual inspections of the interior of the control equipment (if applicable) to determine the structural integrity and condition of the control equipment.
9. Glaze spray operation equipped with baffles | Conduct an annual visual inspection of the baffles to confirm the baffles are in place.
10. Spray dryer | Maintain the average operating temperature for each 4-hour block period at or above the average temperature established during the dioxin/furan performance test in which compliance was demonstrated.
11. Floor tile press dryer | Maintain the average operating temperature for each 4-hour block period at or below the average temperature established during the dioxin/furan performance test in which compliance was demonstrated.

[FR Doc. 2021-24099 Filed 11-18-21; 8:45 am]

BILLING CODE 6560-50-P